DEPARTMENT OF ENERGY

Federal Energy Regulatory Commission

Notice of Effectiveness of Exempt Wholesale Generator and Foreign Utility Company Status

| Docket Nos.
Nova Power, LLC | EG24-1-000
Crow Creek Solar, LLC | EG24-2-000
Inertia Energy Storage, LLC | EG24-3-000
Torrecillas Energy Storage, LLC | EG24-4-000
Ben Milam Solar 1 LLC | EG24-5-000
Ben Milam Solar 3 LLC | EG24-6-000
Salt Creek Township Solar, LLC | EG24-7-000
BCD 2024 Fund 1 Lessee, LLC | EG24-8-000
South Cheyenne Solar, LLC | EG24-9-000
Sunlight Storage II, LLC | EG24-10-000
Willowbrook Solar I, LLC | EG24-11-000
Cedar Creek Wind, LLC | EG24-12-000
St. Gall Energy Storage I, LLC | EG24-13-000
Silver Peak Energy, LLC | EG24-14-000
Wild Springs Solar, LLC | EG24-15-000
Skysol, LLC | EG24-16-000
Beaumont ESS, LLC | EG24-17-000
Placerita ESS, LLC | EG24-18-000
Poblano Energy Storage, LLC | EG24-19-000
Century Oak Wind Project, LLC | EG24-20-000
Black Walnut Energy Storage, LLC | EG24-21-000
CPV Stagecoach Solar, LLC | EG24-22-000
Faraday Interconnection LLC | EG24-23-000
Faraday Solar B LLC | EG24-24-000
Condor Energy Storage, LLC | EG24-25-000
Babbitt Ranch Energy Center, LLC | EG24-26-000
Windpark Duben Süd GmbH & Co. KG | FC24-1-000

Take notice that during the month of December 2023, the status of the above-captioned entities as Exempt Wholesale Generators or Foreign Utility Companies became effective by operation of the Commission's regulations. 18 CFR 366.7(a) (2022).

Dated: January 4, 2024.
Debbie-Anne A. Reese,
Acting Secretary.

[FR Doc. 2024-00336 Filed 1-9-24; 8:45 am]

BILLING CODE 6717-01-P